DEPARTMENT OF COMMERCE

National Oceanic and Atmospheric Administration

RIN 0648-XD038

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Trawl Groundfish Electronic Monitoring Technical Advisory Committee (GEMTAC) will hold a work session, which is open to the public.

DATES: The meeting will be held January 22 and 23, 2014, from 9 a.m. until the earlier of 5 p.m. or when business for each day has been completed.

ADDRESSES: The meeting will be held at the Holiday Inn Portland Airport, Latourell Room 8439, NE Columbia Blvd., Portland, OR 97220; telephone: (503) 256-5000.

Council Address: Pacific Council, 7700 NE Ambassador Place, Suite 101, Portland, OR 97220-1384.

FOR FURTHER INFORMATION CONTACT: Mr. Brett Wiedoff, Staff Officer, Pacific Council; telephone: (503) 820-2280.

SUPPLEMENTARY INFORMATION: At the November Pacific Council meeting in Costa Mesa, CA, the Pacific Council adopted for further analysis a range of alternatives for electronic monitoring (EM) of the West Coast groundfish trawl catch share program and announced that, at its April 2014 meeting, it will consider draft Exempted Fishing Permit (EFP) applications submitted for the purpose of allowing the use of EM in place of observers for vessels participating in the trawl rationalization program. In a letter to the industry, the Pacific Council encouraged applicants to provide draft EFP applications to the Pacific Council's GEMTAC before submission of a complete EFP application to the Pacific Council for its April meeting. The GEMTAC will hold a work session January 22 and 23 in Portland to discuss development of an impact analysis for the Council's adopted alternatives (January 22) and to review draft EFP applications (January 23). The GEMTAC may comment on completeness of the study design, feasibility of implementation, or other elements of the draft EFP applications that might be considered for adjustment. No management actions will be decided at this meeting.

Although non-emergency issues not contained in the meeting agenda may come before the GEMTAC for discussion, those issues may not be the subject of formal action during this meeting. The meeting will be restricted to those issues specifically listed in this notice and any issues arising after publication of this notice that require emergency action under section 305(c) of the Magnuson-Stevens Fishery Conservation and Management Act, provided the public has been notified of the GEMTAC's intent to take final action to address the emergency.

Special Accommodations

This meeting is physically accessible to people with disabilities. Requests for sign language interpretation or other auxiliary aids should be directed to Mr. Kris Kleinschmidt at (503) 820-2280 at least 5 days prior to the meeting date.

Dated: December 18, 2013.
Tracey L. Thompson,
Acting Deputy Director, Office of Sustainable Fisheries, National Marine Fisheries Service.

[FR Doc. 2013-30552 Filed 12-23-13; 8:45 am]

BILLING CODE 3510-22-P